NUCLEAR REGULATORY COMMISSION

10 CFR Parts 72 and 73

[NRC-2009-0558]

Vulnerability and Threat Information for Facilities Storing Spent Nuclear Fuel and High-Level Radioactive Waste

AGENCY: U.S. Nuclear Regulatory Commission.

ACTION: Public meeting.

SUMMARY: The Nuclear Regulatory Commission (NRC) will discuss with affected stakeholders vulnerability and threat information associated with the forthcoming security rulemaking to revise Title 10 of the Code of Federal Regulations (10 CFR) Part 72, “Licensing Requirements for the Independent Storage of Spent Nuclear Fuel, High-Level Radioactive Waste, and Reactor-Related Greater Than Class C Waste,” and 73, “Physical Protection of Plants and Materials.” This information will be used to inform the regulatory basis for the rulemaking which will issue new risk-informed and performance-based security regulations for Spent Nuclear Fuel (SNF) and High-Level Radioactive Waste (HLW) storage facilities. The draft regulatory basis was published for comment in the Federal Register (FR) on December 16, 2009 (74 FR 66589).

This meeting will be closed under exemptions 3.a and 3.b of the Commission's policy statement ¹, due to the expected discussion of classified information.

¹ “Commission's Policy Statement on Enhancing Public Participation in NRC Meetings,” (67 FR 36920), May 28, 2002.

DATES: Tuesday, July 26, 2011, 9 a.m. to 4 p.m. (Eastern Time) (Closed to Public—Requires Access to Classified Information)

ADDRESSES: U.S. Nuclear Regulatory Commission, One White Flint North, Commissioners' Conference Room, O-1 G16, 11555 Rockville Pike, Rockville, Maryland 20852.

FOR FURTHER INFORMATION CONTACT: Dennis Andrukat, Office of Nuclear Security and Incident Response, U.S. Nuclear Regulatory Commission, Washington, DC 20555-0001; telephone 301-415-3561; e-mail: Dennis.Andrukat@nrc.gov.

SUPPLEMENTARY INFORMATION:

Background

The NRC requires high assurance of adequate protection of public health and safety, the common defense and security, and the environment for the secure storage of SNF and HLW. The NRC meets this strategic goal by requiring Independent Spent Fuel Storage Installation licensees to comply with security requirements specified in 10 CFR Part 73. Following the terrorist attacks of September 11, 2001, the NRC has continued to achieve this requisite high assurance for all facilities licensed to store SNF through a combination of these existing security regulations and the issuance of security orders to individual licensees.

Based on the Commission's direction presented in SRM-SECY-10-0114 (Agencywide Documents Access and Management System (ADAMS) Accession No. ML103210025) and stakeholder requests from the NRC sponsored May 2, 2011, open and closed public meetings (ADAMS Package Accession No. ML111450161), the staff is hosting this meeting to enhance stakeholder understanding of the security assessments used to inform the draft regulatory basis and to enhance staff understanding of the comments received. The meeting will discuss classified national security information.

The NRC notes that the public, licensees, certificate holders, and other stakeholders will have a future opportunity to comment on the proposed rulemaking when that document is published in the FR.

Availability of Documents

The following table indicates the related documents that are available to the public and how they may be obtained.

Document | Public Document Room (PDR) | Web | Electronic Reading Room (ADAMS)
Draft Technical Basis, Revision 1 (December 2009) [NRC-2009-0558] | X | X | ML093280743
Commission: SECY-10-0114 (August 26, 2010) | X |  | ML101960614
Commission: SRM-SECY-10-0114 (November 16, 2010) | X | X | ML103210025
Commission: SECY-07-0148 (redacted) (August 28, 2007) | X | X | ML080030050
Commission: SRM-SECY-07-0148 (December 18, 2007) | X | X | ML073530119
Public Meeting Notice for May 2, 2011 (March 30, 2011) | X |  | ML110880263
Meeting Summary Package for May 2, 2011 meeting | X |  | ML111450161

You can access publicly available documents related to this notice using the following methods:

NRC's PDR: The public may examine and have copied, for a fee, publicly available documents at the NRC's PDR, Public File Area O-1 G21, One White Flint North, 11555 Rockville Pike, Rockville, Maryland 20852-2738.

NRC's ADAMS: Publicly available documents created or received at the NRC are available online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Site: Public comments and supporting materials related to this notice can be found at http://www.regulations.gov by searching on Docket ID: NRC-2009-0558.

Availability of Services:

The NRC provides reasonable accommodations to individuals with disabilities where appropriate. If you need a reasonable accommodation to participate in this meeting (e.g., sign language), or need this meeting notice or other information from the meeting in another format, please notify the NRC meeting contact, Dennis Andrukat at 301-415-3561 by July 5, 2011, so that arrangements can be made.

All expected attendees must register with the NRC meeting contact by close of business on July 12, 2011. Attendees must provide their full name, company/organization, last four of social security number, phone number, acknowledgement of current access to Classified Information (minimum “L” clearance), and basis for need-to-know in order to verify that attendees are cleared for access to the information.

No electronic devices will be allowed in the Commissioners' Conference Room during the meeting, this includes cell phones, laptops, pagers, PDAs, etc. No food or drink is allowed in the Commissioners' Conference Room.

All attendees are to use the One White Flint North temporary entrance located on Marinelli Street. The NRC is accessible to the White Flint Metro Station. Visitor parking near the NRC buildings is limited. Parking is available at the White Flint Metro Station using the Metro Smart Card.

Dated at Rockville, Maryland, this 7th day of June 2011.
For the Nuclear Regulatory Commission.
Sandra L. Wastler,
Branch Chief, Division of Security Policy, Office of Nuclear Security and Incident Response.

[FR Doc. 2011-14666 Filed 6-15-11; 8:45 am]

BILLING CODE 7590-01-P